DEPARTMENT OF THE INTERIOR

Bureau of Land Management

[CO-130-05-1220-AL]

Notice of Proposed Supplementary Rules; Recreation Area Conditions of Use; North Fruita Desert; Mesa County, CO

AGENCY: Bureau of Land Management, Interior.

ACTION: Proposed supplementary rules for conditions of use on public land within the North Fruita Desert.

SUMMARY: The Bureau of Land Management (BLM), Grand Junction Field Office, is publishing proposed supplementary rules regulating the conduct of certain activities on all public lands within the North Fruita Desert Special Recreation Management Area (SRMA). These proposed supplementary rules notify the public that certain activities are no longer allowed in the North Fruita Desert, and include, but are not limited to the following: Prohibition of fires outside of designated fire rings within the designated campground in the bicycle emphasis area, required use of fire pans outside of the mountain bike emphasis area, prohibition of discharge of dangerous weapons within the mountain bike emphasis area, prohibition of camping outside of designated camping sites within the mountain bike emphasis area, limiting all motorized and mechanized vehicle travel within the area to designated routes, the seasonal closure of certain routes, prohibition of possession or use of firewood containing nails or other metal hardware, and the prohibition on shooting any glass objects.

DATES: Comments on the proposed supplementary rules must be received or postmarked by August 29, 2005, to be assured consideration. In developing final supplementary rules, BLM may not consider comments postmarked or received in person or by electronic mail after this date.

ADDRESSES: Mail, personal or messenger delivery: Bureau of Land Management, Grand Junction Field Office, 2815 H Road, Grand Junction, CO 81506. Internet e-mail: Attn: Britta_Laub@co.blm.gov.

FOR FURTHER INFORMATION CONTACT: Britta Laub, Supervisory Outdoor Recreation Planner, at (970) 244-3000.

SUPPLEMENTARY INFORMATION:

I. Public Comment Procedures

II. Background

III. Procedural Matters

IV. Discussion of the Proposed Supplementary Rules

I. Public Comment Procedures

Public comment on the North Fruita Desert Plan amendment and recreation activity plan ended on September 3, 2004. This notice is intended to ensure decisions made in the amendment and plan are enforceable.

Written comments on the proposed supplementary rules should be specific, confined to issues pertinent to the proposed supplementary rules, and should explain the reason for any recommended change. Where possible, comments should reference the specific section or paragraph of the proposal which the comment is addressing. BLM may not necessarily consider or include in the Administrative Record for the final rule comments that BLM receives after the close of the comment period (see DATES), unless they are postmarked or electronically dated before the deadline, or comments delivered to an address other than those listed above (see ADDRESSES).

Comments, including names, street addresses, and other contact information of respondents, will be available for public review at Bureau of Land Management, Grand Junction Field Office, 2815 H Road, Grand Junction, CO 81506, during regular business hours (7:30 a.m. to 4:30 p.m., Monday through Friday, except Federal holidays). Individual respondents may request confidentiality. If you wish to request that BLM consider withholding your name, street address, and other contact information (such as: Internet address, FAX, or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The North Fruita Desert Management Plan was approved on November 8, 2004. The North Fruita area has become increasing popular for its mountain biking, dispersed camping, and motorized recreational opportunities. In 2003, use numbered about 50,000 visits. Increased use and marketing of the area have resulted in impacts to resources (illegal trail construction and proliferation of social trails, vegetation tramping, weed invasion, sterilization of soil through multiple ground fires), have raised public health and safety issues (human and dog waste, glass and metal debris), and social conflicts (between motorized and mechanized users, competition for camping space, local vs. recreation destination visitors, and shooting over trails). The plan addresses these issues and these proposed supplementary rules enact the prescriptions outlined in the plan.

III. Procedural Matters

Executive Order 12866, Regulatory Planning and Review

These proposed supplementary rules are not a significant regulatory action and are not subject to review by Office of Management and Budget under Executive Order 12866. These proposed supplementary rules will not have an effect of $100 million or more on the economy. They will not adversely affect in a material way the economy, productivity, competition, jobs, the environment, public health or safety, or state, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They merely impose rules of conduct and impose other limitations on certain recreational activities on certain public lands to protect natural resources and human health and safety.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand?

Please send any comments you have on the clarity of the supplementary rules to the address specified in the ADDRESSES section.

National Environmental Policy Act

BLM has prepared an environmental assessment (EA) and has found that the proposed supplementary rules would not constitute a major Federal action significantly affecting the quality of the human environment under section 102(2)(C) of the Environmental Protection Act of 1969 (NEPA), 42 U.S.C. 4332(2)(C). A detailed statement under NEPA is not required. BLM has placed the EA and the Finding of No Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on certain public lands to protect natural resources and the environment, and human health and safety. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These proposed supplementary rules do not impose an unfunded mandate on state, local, or tribal governments or the private sector of more than $100 million per year; nor do these proposed supplementary rules have a significant or unique effect on State, local, or tribal governments or the private sector. They would merely impose reasonable restrictions on certain recreational activities on certain public lands to protect natural resources and the environment, and human health and safety. Therefore, BLM is not required to prepare a statement containing the information required by the Unfunded Mandates Reform Act (2 U.S.C. 1531 et seq.)

Executive Order 12630, Governmental Actions and Interference With Constitutionally Protected Property Rights (Takings)

The rule does not represent a government action capable of interfering with Constitutionally protected property rights. The plan addresses the management of public lands within the North Fruita Desert and in no way addresses the management of private lands. Therefore, the Department of the Interior has determined that the rule would not cause a taking of private property or require further discussion of takings implications under this Executive Order.

Executive Order 13132, Federalism

The rule will not have a substantial direct effect on the States, on the relationship between the National Government and the States, or on the distribution of power and responsibilities among the various levels of government. The state of Colorado was involved in the development of the plan, the plan underwent the required 60 day Governors Consistency review, and the rule addresses the federal enforceability of conditions of use as described in the plan and does not impact State power or responsibilities. Therefore, in accordance with Executive Order 13132, BLM has determined that this proposed rule does not have sufficient federalism implications to warrant preparation of a federalism assessment.

Executive Order 12988, Civil Justice Reform

Under Executive Order 12988, the Office of the Solicitor has determined that this rule would not unduly burden the judicial system and that it meets the requirements of sections 3(a) and 3(b)(2) of the Order.

Executive Order 13175, Consultation and Coordination With Indian Tribal

In accordance with Executive Order 13175, we have found that this rule does not include policies that have tribal implications. The conditions of use as described in this notice are intended to protect resources, public health and safety, and mitigate user conflict. No tribal lands are located within or near the North Fruita Desert. The rule does not apply to Indian lands.

Paperwork Reduction Act

These proposed supplementary rules do not contain information collection requirements that the Office of Management and Budget must approve under the Paperwork Reduction Act of 1995, 44 U.S.C. 3501 et seq.

Author

The principal authors of these proposed supplementary rules are: Perry McCoy, James Cooper, and Britta Laub, Grand Junction Field Office.

IV. Discussion of the Proposed Supplementary Rules

These proposed supplementary rules will apply to the public lands under the administration of the Bureau of Land Management located within the North Fruita Desert. The BLM has determined that these rules are necessary to protect the area's natural resources, to provide for safe public recreation, public health, reduce potential for user conflict, and reduce the potential for damage to the environment and to enhance the experience of the visitor.

Under the authority found in 43 U.S.C. 1733(a), pursuant to 43 CFR 8364.1, 43 CFR 8365.1-6, 43 CFR 9212.2, 43 CFR 9268.3 the Bureau of Land Management proposes to enforce the following rules on all public lands administered by the Bureau of Land Management within the North Fruita Desert. You must follow these rules:

Sec. 1: Prohibited Acts/Rules

While on public lands in the North Fruita Desert,

a. No discharge of dangerous weapons will be allowed in the bicycle emphasis area, except for the lawful taking of game during bonafide hunting seasons.

b. In North Fruita Desert SRMA, all fires must be contained in a fire pan and all ash and burned material removed and disposed of off of public lands.

c. In the North Fruita Desert SRMA, provided and/or portable toilets must be used and contents disposed of according to Mesa County requirements.

d. In the North Fruita Desert SRMA, it is prohibited to collect downed wood for campfires or other purposes.

e. In the mechanized (bicycle) emphasis area, visitors must camp in designated campsites. Dispersed camping will continue to be allowed in the remaining portions of the North Fruita Desert SRMA.

f. All motorized and mechanized travel is limited to designated roads and trails.

g. No motorized travel is permitted, except on the graveled access road, V.7 Road, and campground spur pull-offs in the mechanized (bicycle) emphasis area. The mechanized (bicycle) emphasis area is defined as portions of T8S R102W sec. 24, 25, and 36, T9S R102W sec.1, T8S R101W sec. 28, 29, 30, 31, 32, 33, 34, and 35, T9S R101W sec. 3, 4, 5, and 6.

h. No motorized or mechanized vehicle travel is permitted, except on Q.5 Road, within the non-motorized/non-mechanized emphasis area. The non-motorized/non-mechanized emphasis area is defined as portions of T8S R101W sec. 35 and 36, T9S R101W sec. 1, 2, 3, 9, 10, 11, 12, and 14, T9S R100W sec. 5, 6, 7, and 8.

i. The Lippan Wash Trail and Coal Gulch Trail will be seasonally closed to mechanized and motorized travel from December 1 until April 1 of each year. The opening date may be moved to an earlier or later date if conditions warrant.

j. No person shall use or possess firewood containing nails, screws, or other metal hardware to include, but not limited to, wood pallets and construction debris.

k. Administrative use is limited to designated routes. Exemptions to travel restrictions are listed under “ORV”, exclusions, below.

Sec. 2: Definitions

“Dangerous weapons” include, but are not limited to: Rifles, pistols, air guns, paint ball guns, bows and arrows, slingshots, or any mechanical devices that propel a projectile.

“Designated fire ring” means specific areas designed and delineated for use and containment of camping and/or cooking fires. Fire rings are typically constructed of metal sheeting 2½ to 3 feet in diameter and no less than 1 foot deep.

“Fire pan” means a metal container elevated off the ground that serves as a barrier between the ground and the fire, to contain the fire and facilitate the removal of ashes.

“Mechanized vehicle” means a mechanical vehicle propelled by human power without use of a motor (e.g.: mountain bike).

“Motorized vehicle” is used synonymously with ORV and OHV, and may include motorcycles, ATVs, or full sized vehicles.

“Non-motorized, non-mechanized” means powered by human power alone without use of mechanized or motorized assistance. Equestrian use falls under this definition.

“OHV” means Off Highway Vehicle and is used synonymously with ORV.

“ORV” means Off Road Vehicle as defined in 43 CFR 8340.0-5 (a) as any motorized vehicle capable of, or designed for, travel onto or immediately over land, water, or other natural terrain, excluding:

1. Any non-amphibious registered motorboat;

2. Any military, fire, emergency, or law enforcement vehicle while being used for emergency purposes;

3. Any vehicle whose use is expressly authorized by the authorized officer, or otherwise officially approved;

4. Vehicles in official use:

5. Any combat or support vehicle when used in times of national defense emergencies.

“Public lands” means any land in the North Fruita Desert, the surface of which is administered by the Bureau of Land Management. The North Fruita Desert is bounded by East Salt Creek on the West, Coal Gulch on the North, 21 Road on the east, and the BLM/private land boundary on the south, Mesa County Colorado, T.2 N.R., R3W., T.2N. R.2W. Ute Principle Meridian, T.9S. R.103W., T.8S. R.103W., T.9S. R.102W., T.8S. R.102W., T.9S. R.101W., T.8S. R.101W., T.9S. R.100W., T.8S. R.100W. 6th Principle Meridian.

Sec. 3: Penalties

Under section 303(a) of the Federal Land Policy and Management Act of 1976 (43 U.S.C. 1733(a)), 43 CFR 8360.0-7, 43 CFR 9268.3(d)(1)(2), and 18 U.S.C. 3571 if you violate any of these proposed supplementary rules on public lands within the boundaries established in the rules, you shall be tried before a United States Magistrate and fined no more than $1,000 or imprisoned for no more than 12 months, or both. Such violations shall also be subject to the enhanced fines provided for by 18 U.S.C. 3571.

Douglas M. Koza,
Acting State Director.

[FR Doc. 05-14946 Filed 7-27-05; 8:45 am]

BILLING CODE 4310-JB-P